DEPARTMENT OF COMMERCE

Patent and Trademark Office

Submission for OMB Review; Comment Request; Secrecy and License To Export

The United States Patent and Trademark Office (USTPO) will submit to the Office of Management and Budget (OMB) for clearance the following proposal for collection of information under the provisions of the Paperwork Reduction Act (44 U.S.C. Chapter 35).

Agency: United States Patent and Trademark Office, Commerce.

Title: Secrecy and License to Export.

OMB Control Number: 0651-0034.

Form Number(s): None.

Type of Request: Revision of a currently approved collection.

Number of Respondents: 2,559 per year.

Average Hours Per Response: Between 30 minutes (0.5 hours) and 4 hours to gather the necessary information, prepare the materials, and to submit it to the USPTO, depending upon the instrument used and the complexity of the situation.

Burden Hours: 1607.5 hours.

Cost Burden: $448,267.70.

Needs and Uses: This information is required by 35 U.S.C. 181-188 and administered by the USPTO through 37 CFR 5.1-5.22 and 1.17. This collection includes the information needed by the USPTO to review the various types of petitions regarding secrecy orders and to issue or revoke foreign filing licenses. Responses to this information collection is necessary to obtain a permit to disclose, modify or rescind a secrecy order; to obtain general or group permits; to obtain foreign filing licenses, including retroactive foreign filing licenses; or to change the scope of a license.

Affected Public: Businesses or other for-profits; not-for-profit institutions.

Frequency: On occasion.

Respondent's Obligation: Required to Obtain or Retain Benefits.

OMB Desk Officer: Kimberly R. Keravouri, email: Kimberly_R_Keravouri@omb.eop.gov.

Once submitted, the request will be publicly available in electronic format through reginfo.gov. Follow the instructions to view Department of Commerce collections currently under review by OMB.

Further information can be obtained by:

• Email: InformationCollection@uspto.gov. Include “0651-0034 copy request” in the subject line of the message.

• Mail: Marcie Lovett, Records Management Division Director, Office of the Chief Information Officer, United States Patent and Trademark Office, P.O. Box 1450, Alexandria, VA 22313-1450.

Written comments and recommendations for the proposed information collection should be sent on or before January 19, 2017 to Kimberly R. Keravouri, OMB Desk Officer, via email to Kimberly_R_Keravouri@omb.eop.gov, or by fax to 202-395-5167, marked to the attention of Kimberly R. Keravouri.

Dated: December 13, 2016.
Marcie Lovett,
Records Management Division Director, OCIO, United States Patent and Trademark Office.

[FR Doc. 2016-30506 Filed 12-19-16; 8:45 am]

BILLING CODE 3510-16-P